DEPARTMENT OF AGRICULTURE

Submission for OMB Review; Comment Request

November 20, 2018.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by December 26, 2018 will be considered. Written comments should be addressed to: Desk Officer for Agriculture, Office of Information and Regulatory Affairs, Office of Management and Budget (OMB), New Executive Office Building, 725—17th Street NW, Washington, DC 20502. Commenters are encouraged to submit their comments to OMB via email to: OIRA_Submission@OMB.EOP.GOV or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Economic Research Service

Title: Food Security Supplement to the Current Population Survey.

OMB Control Number: 0536-0043.

Summary of Collection: The Food Security Supplement is sponsored by USDA as research and evaluation activity authorized under 7 U.S.C. 2204(a). This section outlines duties of the Secretary of Agriculture related to research and development including authorizing the collection of statistics. The Administrator of the Economic Research Service is authorized to conduct economic and social science research and analyses related to the U.S. food system and consumers under 7 CFR 2.67. The data to be collected will be used to address multiple programmatic and policy development needs of the Food and Nutrition Service (FNS) and other Federal agencies. The U.S. Census Bureau has the right to conduct the data collection on USDA's behalf under Title 13, Section 8(b).

Need and Use of the Information: The data collected by the food security supplement will be used to obtain reliable data from a large, representative national sample as a basis for monitoring the prevalence of food security, food insecurity, and very low food security within the U.S. population as a whole and in selected population subgroups; conducting research on causes of food insecurity and the role of Federal food and nutrition programs in ameliorating food insecurity; and continuing development and improvement of methods for measuring these conditions. Information will be collected on food spending, use of Federal and community food and nutrition assistance programs, difficulties in obtaining adequate food during the previous 12 months and 30 days due to constrained resources, and conditions that result from inadequate access to food.

Description of Respondents: Individuals or Households.

Number of Respondents: 53,802.

Frequency of Responses: Reporting: On occasion.

Total Burden Hours: 6,465.

Ruth Brown,
Departmental Information Collection Clearance Officer.

[FR Doc. 2018-25615 Filed 11-23-18; 8:45 am]

BILLING CODE 3410-18-P